DEPARTMENT OF DEFENSE

Department of the Air Force

[Docket ID: USAF-2023-HQ-0007]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by December 1, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574 whs.mc-alex.esd.mbx.dd-dod-information-collections@mail.mil.

SUPPLEMENTARY INFORMATION:

Title; Associated Form; and OMB Number: Qualitative Study of Factors that Influence Healthcare Seeking in Pilots; OMB Control Number 0701-TPHB.

Type of Request: New.

Number of Respondents: 100.

Responses per Respondent: 1.

Annual Responses: 100.

Average Burden per Response: 48 minutes.

Annual Burden Hours: 80.

Needs and Uses: Information collection via semi-structured interviews is necessary to conduct a qualitative study of US Air Force active duty pilots, US Air Force trainee pilots, civilian collegiate aviation students, and commercial airline pilots. Data collection will focus on the following: (1) factors that negatively influence healthcare utilization and aeromedical disclosure during screening, (2) factors that support healthcare utilization and aeromedical disclosure during screening, and (3) factors that can be modified to address pilot healthcare avoidance from a pilot's perspective to inform future prospective research. This study has been approved as part of the FY22 Studies and Analysis (S&A) Portfolio by the Commander of the United States School of Aerospace Medicine (USAFSAM). The Air Force Aerospace and Operational Medicine (AO) Panel (lead by the AFMRA/SG3P) provides baseline S&A funds to USAFSAM to address urgent and near-term needs, issues, and consultative questions that arise from installations, the Aerospace Medicine Community (Team-SGP) and Line of the Air Force senior leadership and commanders that are appropriate for one-year, short term investigative work.

Aircraft pilots are required to meet certain medical standards in order to function as a required aircrew member. If a pilot develops a new symptom or condition and discloses it during aeromedical screening, the pilot runs the risk of temporary or permanent loss of their flying status. This can result in negative occupational, social, and financial repercussions for the pilot. For this reason, it has been hypothesized that a subset of pilots participates in healthcare avoidance or does not fully disclose during aeromedical screening due to fear for aeromedical certificate loss. Evolving data is beginning to clarify the vast scope of this issue. A recent publication of over 3,500 US pilots showed that 56.1% of pilots reported a history of healthcare avoidance behavior due to fear for loss of aeromedical certification (1). More concerning, 60.1% of another sample of US pilots reported delaying or forgoing medical care due to fear for loss of flying status (2). Healthcare avoidance in aircraft pilots due to fear for loss of flying status may be prevalent, but many unanswered questions remain about factors that influence healthcare utilization and medical disclosure during aeromedical screening.

Research on pilot healthcare avoidance is critical to maintain military readiness for the following reasons: (1) optimizing existing medical assets increases the efficiency and effectiveness of warfighting capability without increased investment; (2) early presentation to medical care can increase the operational career and medical readiness of pilots, resulting in increased readiness efficacy and cost savings; and (3) research on pilots can inform how the aeromedical system supports this generation of pilots in the future (this population of pilots is hypothesized to have different healthcare preferences and behaviors from previous generations of pilots).

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: October 24, 2023.
Aaron T. Siegel,
Alternate OSD Federal Register Liaison Officer, Department of Defense.

[FR Doc. 2023-24063 Filed 10-31-23; 8:45 am]

BILLING CODE 6001-FR-P